DEPARTMENT OF ENERGY

Federal Energy Regulatory Commission

Notice of Settlement Agreement and Soliciting Comments

March 27, 2006.

Take notice that the following settlement agreement has been filed with the Commission and is available for public inspection.

a. Type of Application: Settlement Agreement.

b. Project No.: P-2100-052.

c. Date filed: March 24, 2006.

d. Applicant: California Department of Water Resources.

e. Name of Project: Oroville Facilities.

f. Location: On the Feather River, in the foothills of the Sierra Nevada in Butte County, California. The project boundary encompasses 5,900 acres of federal land—2,000 acres of U.S. Forest Service land and 3,900 acres owned by the U.S. Bureau of Land Management.

g. Filed Pursuant to: Rule 602 of the Commission's Rules of Practice and Procedure, 18 CFR 385.602.

h. Applicant Contact: Michael A. Swiger, Van Ness Feldman, Attorneys at Law, 1050 Thomas Jefferson St., NW., Washington, DC 20007. (209) 298-1891.

i. FERC Contact: Ann-Ariel Vecchio, 888 First St., NE., Washington, DC 20426. (202) 502-6351.

j. Deadline for filing comments: April 26, 2006. Reply comments due May 11, 2006.

All documents (original and eight copies) should be filed with: Magalie R. Salas, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Comments may be filed electronically via the Internet in lieu of paper. The Commission strongly encourages electronic filings. See 18 CFR 385.2001(a)(1)(iii) and the instructions on the Commission's Web site (http://www.ferc.gov) under the “e-Filing” link.

k. California Department of Water Resources (DWR) filed a settlement on behalf of itself and 51 other entities.¹ The purpose of the settlement agreement is to resolve all issues that have or could have been raised by the settling parties in connection with the Commission's issuance of a new license for the project and to establish DWR's obligations for the protection, mitigation, and enhancement of resources affected by the project. The settlement includes provisions for river habitat improvement, fish hatchery improvements, instream flows, water quality, wildlife habitat management, recreation management, and cultural resources protection. DWR requests that the settlement become the preferred alternative in lieu of the preferred alternative identified in the application for new license, filed with the Commission on January 26, 2005.

¹ The other Settling Parties include Alameda County Flood Control & Water Conservation District, Zone 7, Alameda County Water District, American Rivers, American Whitewater, Antelope Valley—East Kern Water Agency, Berry Creek Citizens Association, California Department of Boating and Waterways, California Department of Fish and Game, California Department of Parks and Recreation, California State Horsemen's Association, California State Horsemen's Association Region II, Castaic Lake Water Agency, Central Coast Water Agency, Chico Paddleheads, Citizens for Fair and Equitable Recreation, City of Oroville, Coachella Valley Water District, County of Kings, Crestline—Lake Arrowhead Water Agency, DC Jones, Desert Water Agency, Empire West Side Irrigation District, Feather River Low Flow Alliance, Feather River Recreation and Parks District, International Mountain Bicycling Association, Kern County Water Agency, Kon Kow Valley Band of Maidu, Lake Oroville Bicyclist Organization, Littlerock Creek Irrigation District, Metropolitan Water District of Southern California, Mojave Water Agency, Napa County Flood Control and Water Conservation District, National Marine Fisheries Service, Oak Flat Water District, Oroville Area Chamber of Commerce, Oroville Downtown Business Association, Oroville Economic Development Corporation, Oroville Parks Commission, Oroville Recreation Advisory Committee, Oroville Redevelopment Agency, Oroville Rotary Club, Palmdale Water District, San Bernardino Valley Municipal Water District, San Gabriel Valley Municipal Water District, San Gorgonio Pass Water Agency, Santa Clara Valley Water District, Solano County Water Agency, State Water Contractors, Inc., Town of Paradise, Tulare Lake Basin Water Storage District, and United States Department of the Interior on behalf of its component bureaus.

l. A copy of the settlement agreement is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/ docs-filing/ esubscription.asp to be notified via e-mail of new filings and issuances related to this or other pending projects. For assistance, contact FERC Online Support.

Magalie R. Salas,
Secretary.

[FR Doc. E6-4872 Filed 4-4-06; 8:45 am]

BILLING CODE 6717-01-P